DEPARTMENT OF COMMERCE

National Oceanic and Atmospheric Administration

50 CFR Part 622

[Docket Nos. 100120037-1626-02 and 101217620-1788-03]

RIN 0648-XC574

Fisheries of the Caribbean, Gulf of Mexico, and South Atlantic; 2013 Accountability Measures for Species in the U. S. Caribbean

AGENCY: National Marine Fisheries Service (NMFS), National Oceanic and Atmospheric Administration (NOAA), Commerce.

ACTION: Temporary rule; accountability measures.

SUMMARY: NMFS implements accountability measures (AMs) for species and species groups in the exclusive economic zone of the U.S. Caribbean (EEZ) for the 2013 fishing year through this temporary rule. NMFS has determined that several annual catch limits (ACLs), as estimated by the Science and Research Director (SRD), were exceeded during the 2010 or 2011 fishing years. This temporary rule reduces the length of the 2013 fishing season for these species and species groups by the amount necessary to ensure that landings do not exceed the applicable ACL in 2013. NMFS implements AMs for the following species and species groups as of the date specified until the end of the fishing year: Snapper Unit 2 (commercial) in the EEZ off Puerto Rico, September 21, 2013; wrasses (recreational) in the EEZ off Puerto Rico, October 21, 2013; triggerfish and filefish in the EEZ off St. Croix, November 21, 2013; spiny lobster in the EEZ off St. Croix, December 19, 2013; groupers in the EEZ off St. Thomas/St. John, December 20, 2013. These AMs are necessary to protect the Caribbean reef fish and spiny lobster resources.

DATES: This rule is effective April 25, 2013 through December 31, 2013. Snapper Unit 2 (commercial) AMs in the EEZ off Puerto Rico are effective 12:01 a.m., local time, September 21, 2013, until 12:01 a.m., local time, January 1, 2014. Wrasses (recreational) AMs in the EEZ off Puerto Rico are effective 12:01 a.m., local time, October 21, 2013, until 12:01 a.m., local time, January 1, 2014. Triggerfish and filefish AMs in the EEZ off St. Croix are effective 12:01 a.m., local time, November 21, 2013, until 12:01 a.m., local time, January 1, 2014. Spiny lobster AMs in the EEZ off St. Croix are effective 12:01 a.m., local time, December 19, 2013, until 12:01 a.m., local time, January 1, 2014. Groupers AMs in the EEZ off St. Thomas/St. John are effective 12:01 a.m., local time, December 20, 2013, until 12:01 a.m., local time, January 1, 2014.

FOR FURTHER INFORMATION CONTACT: William S. Arnold, telephone: 727-824-5305, email: Bill.Arnold@noaa.gov.

SUPPLEMENTARY INFORMATION: The reef fish fishery of the Caribbean, which includes snappers in Snapper Unit 2, triggerfish and filefish, wrasses, and groupers, is managed under the Fishery Management Plan (FMP) for the Reef Fish Fishery of Puerto Rico and the U.S. Virgin Islands (Reef Fish FMP). Spiny lobster of the Caribbean is managed under the FMP for the Spiny Lobster Fishery of Puerto Rico and the U.S. Virgin Islands (Spiny Lobster FMP). The Spiny Lobster FMP and the Reef Fish FMP were prepared by the Caribbean Fishery Management Council and are implemented under the authority of the Magnuson-Stevens Fishery Conservation and Management Act (Magnuson-Stevens Act) by regulations at 50 CFR part 622. The ACLs specified in this temporary rule are given in round weight.

Background

The Magnuson-Stevens Act requires that ACLs and AMs be established to end overfishing and prevent overfishing from occurring. ACLs are levels of annual catch of a stock or stock complex that are set to prevent overfishing from occurring. AMs are management controls to prevent ACLs from being exceeded, and to correct or mitigate overages of the ACL if they occur.

The final rule for the 2010 Caribbean ACL Amendment published on December 30, 2011 (76 FR 82404), established, in part, ACLs and AMs for reef fish units or sub-units that are classified as undergoing overfishing, including the species with ACL overages identified in this temporary rule: snappers in Snapper Unit 2 (cardinal and queen snapper), and groupers in Grouper Unit 3 (coney, graysby, red hind, and rock hind), Grouper Unit 4 (black grouper, red grouper, tiger grouper, and yellowfin grouper), and Grouper Unit 5 (misty grouper and yellowedge grouper). That final rule allocated these ACLs among three Caribbean island management areas, i.e., the Puerto Rico, St. Croix, and St. Thomas/St. John management areas of the EEZ, as specified in Appendix E to part 622.

The final rule for the 2011 Caribbean ACL Amendment published on December 30, 2011 (76 FR 82414), established, in part, ACLs and AMs for species and species groups that were not determined to be undergoing overfishing, including the species with ACL overages identified in this temporary rule: spiny lobster and specific reef fish including wrasses (hogfish, puddingwife, and Spanish hogfish), triggerfish (ocean triggerfish, queen triggerfish, and sargassum triggerfish), and filefish (scrawled filefish, whitespotted filefish, and black durgon). That final rule allocated these ACLs among the three Caribbean island management areas.

Each ACL allocated to Puerto Rico is also allocated between the commercial and recreational sectors because both commercial and recreational sector landings are available. For the St. Croix and St. Thomas/St. John island management areas, only commercial data are available. Therefore, each ACL for the St. Croix and St. Thomas/St. John island management areas applies to both the commercial and recreational sectors.

Accountability Measures

Pursuant to the AMs established in the Reef Fish FMP and the Spiny Lobster FMP, the AMs that apply to each of the species or species groups addressed in this temporary rule are as follows: if landings from a Caribbean island management area, as specified in Appendix E to part 622, are estimated by the SRD to have exceeded the applicable ACL, the Assistant Administrator for Fisheries, NOAA, (AA), will file a notification with the Office of the Federal Register, at or near the beginning of the following fishing year, to reduce the length of the fishing season for the applicable species or species groups that year by the amount necessary to ensure landings do not exceed the applicable ACL, as specified at 50 CFR 622.49(c). Landings will be evaluated relative to the applicable ACL based on a moving multi-year average of landings, as described in the FMP. However, if NMFS determines the ACL for a particular species or species group was exceeded because of enhanced data collection and monitoring efforts instead of an increase in total catch of the species or species group, NMFS will not reduce the length of the fishing season for the applicable species or species group the following fishing year. NMFS has determined that the ACLs for the species and species groups in this temporary rule were exceeded because of an increase in total catch and not because of enhanced data collection and monitoring methods. Therefore, NMFS reduces the length of the 2013 fishing season for these species and species groups by the amount necessary to ensure that landings do not exceed the applicable ACL in 2013.

Some of the species contained in this temporary rule have specific prohibited and limited-harvest species limitations. These limitations apply without regard to whether the species is harvested by a vessel operating under a valid commercial fishing license issued by Puerto Rico or the U.S. Virgin Islands or by a person subject to the bag limits, as specified at 50 CFR 622.32(b)(1).

Puerto Rico Commercial Snapper Unit 2

The commercial ACL for Snapper Unit 2 in the Puerto Rico management area is 145,916 lb (66,186 kg), as specified at 50 CFR 622.49(c)(1)(i)(D).

NMFS has determined the commercial ACL for Snapper Unit 2 based on 2010-2011 data has been exceeded. Therefore, this temporary rule implements AMs for the commercial sector for Snapper Unit 2 to reduce the 2013 fishing season to ensure landings do not exceed the commercial ACL for Snapper Unit 2 in the 2013 fishing year. The 2013 fishing season for the commercial sector for Snapper Unit 2 in or from the Puerto Rico management area of the EEZ ends effective September 21, 2013. The 2014 fishing season begins 12:01 a.m., local time, January 1, 2014.

Puerto Rico Recreational Wrasses

The recreational ACL for wrasses in the Puerto Rico management area is 5,050 lb (2,291 kg), as specified at 50 CFR 622.49(c)(1)(ii)(L).

NMFS has determined the recreational ACL for wrasses based on 2011 data has been exceeded. Therefore, this temporary rule implements AMs for the recreational sector for wrasses to reduce the 2013 fishing season to ensure landings do not exceed the recreational ACL for wrasses in the 2013 fishing year. The 2013 fishing season for the recreational sector for wrasses in or from the Puerto Rico management area of the EEZ ends effective October 21, 2013. The 2014 fishing season begins 12:01 a.m., local time, January 1, 2014.

St. Croix Triggerfish and Filefish

The ACL for triggerfish and filefish in the St. Croix management area is 24,980 lb (11,331 kg), as specified at 50 CFR 622.49(c)(2)(i)(N).

NMFS has determined the ACL for triggerfish and filefish based on 2011 data has been exceeded. Therefore, this temporary rule implements AMs for triggerfish and filefish to reduce the 2013 fishing season to ensure landings do not exceed the stock ACL for triggerfish and filefish in the 2013 fishing year. The 2013 fishing season for triggerfish and filefish in or from the St. Croix management area of the EEZ ends effective November 21, 2013. The 2014 fishing season begins 12:01 a.m., local time, January 1, 2014.

St. Croix Spiny Lobster

The ACL for spiny lobster, in the St. Croix management area is 107,307 lb (48,674 kg), as specified at 50 CFR 622.49(c)(2)(i)(O).

NMFS has determined the ACL for spiny lobster based on 2011 data has been exceeded. Therefore, this temporary rule implements AMs for spiny lobster to reduce the 2013 fishing season to ensure landings do not exceed the ACL for spiny lobster in the 2013 fishing year. The 2013 fishing season for spiny lobster in or from the St. Croix management area of the EEZ ends effective December 19, 2013. The 2014 fishing season begins 12:01 a.m., local time, January 1, 2014.

St. Thomas/St. John Groupers

The ACL for groupers, in the St. Thomas/St. John management area is 51,849 lb (23,518 kg), as specified at 50 CFR 622.49(c)(3)(i)(D).

NMFS has determined the ACL for groupers based on 2010-2011 data has been exceeded. Therefore, this temporary rule implements AMs for groupers to reduce the 2013 fishing season to ensure landings do not exceed the ACL for groupers in the 2013 fishing year. The 2013 fishing season for groupers in or from the St. Thomas/St. John management area of the EEZ ends effective December 20, 2013. The 2014 fishing season begins 12:01 a.m., local time, January 1, 2014.

Classification

The Regional Administrator, Southeast Region, NMFS, has determined this temporary rule is necessary for the conservation and management of the Caribbean reef fish and spiny lobster fisheries and is consistent with the Magnuson-Stevens Act, the FMPs, and other applicable laws.

This action is taken under 50 CFR 622.49(c) and is exempt from review under Executive Order 12866.

These measures are exempt from the procedures of the Regulatory Flexibility Act because the temporary rule is issued without opportunity for prior notice and comment.

This action responds to the best available information recently obtained from the fisheries. The AA finds there is good cause to waive the requirements to provide prior notice and opportunity for public comment pursuant to the authority set forth in 5 U.S.C. 553(b)(B). Such procedures would be unnecessary because the rules implementing the ACLs and AMs for these species and species groups have been subject to notice and comment, and all that remains is to notify the public that the ACLs were exceeded and that the AMs for these species and species groups are being implemented for the 2013 fishing year.

Authority: 16 U.S.C. 1801 et seq.

Dated: March 21, 2013.
Kara Meckley,
Acting Deputy Director, Office of Sustainable Fisheries, National Marine Fisheries Service.

[FR Doc. 2013-06862 Filed 3-25-13; 8:45 am]

BILLING CODE 3510-22-P